FEDERAL COMMUNICATIONS COMMISSION

[IB Docket No. 04-286; DA 08-2689]

First Meeting of the Advisory Committee for the 2011 World Radiocommunication Conference

AGENCY: Federal Communications Commission.

ACTION: Notice.

SUMMARY: In accordance with the Federal Advisory Committee Act, this notice advises interested persons that the initial meeting of the WRC-11 Advisory Committee will be held on January 13, 2009, at the Federal Communications Commission. The purpose of the meeting is to begin preparations for the 2011 World Radiocommunication Conference.

DATES: January 13, 2009; 11 a.m. to 12 noon.

ADDRESSES: Federal Communications Commission, 445 12th Street, SW., Room TW-C305, Washington, DC 20554.

FOR FURTHER INFORMATION CONTACT: Alexander Roytblat, Designated Federal Official, WRC-11 Advisory Committee, FCC International Bureau, Strategic Analysis and Negotiations Division, at (202) 418-7501.

SUPPLEMENTARY INFORMATION: As it initiates preparations for the next World Radiocommunication Conference that has been preliminarily scheduled for the year 2011 (WRC-11), the Federal Communications Commission (FCC) has amended the charter of its Advisory Committee for the 2007 Radiocommunication Conference. The Advisory Committee has been renamed the Advisory Committee for the 2011 Radiocommunication Conference (or simply, WRC-11 Advisory Committee), and its scope of activities have been amended to address issues contained in the agenda for WRC-11. The Federal Communications Commission (FCC) established the WRC-11 Advisory Committee to provide advice, technical support and recommendations relating to the preparation of United States proposals and positions for the 2011 World Radiocommunication Conference (WRC-11).

In accordance with the Federal Advisory Committee Act, Public Law 92-463, as amended, this notice advises interested persons of the first meeting of the WRC-11 Advisory Committee. The WRC-11 Advisory Committee has an open membership. All interested parties are invited to participate in the Advisory Committee and to attend its meetings. The proposed agenda for the first meeting is as follows:

Agenda

First Meeting of the WRC-11 Advisory Committee, Federal Communications Commission, 445 12th Street, SW., Room TW-C305, Washington, DC 20554, January 13, 2009; 11 am. to 12 noon.

1. Opening Remarks.

2. Approval of Agenda.

3. Advisory Committee Structure.

4. Report on Recent WRC-11 Preparatory Meetings.

5. WRC-11 Preparatory Process Timeline.

6. Other Business.

Federal Communications Commission.
Helen Domenici,
Chief, International Bureau.

[FR Doc. E8-30446 Filed 12-19-08; 8:45 am]

BILLING CODE 6712-01-P